FEDERAL COMMUNICATIONS COMMISSION

[Report No. AUC-00-31-E (Auction No. 31); DA 00-785]

747-762 and 777-792 MHz Band Auction Filing Dates and Changes to Attachment J

AGENCY: Federal Communications Commission.

ACTION: Notice.

SUMMARY: This document announces new dates relevant to the upcoming auction of licenses in the 747-762 and 77-792 MHz bands (Auction No. 31) scheduled to begin June 7, 2000.

DATES: Auction No. 31 will begin June 7, 2000.

FOR FURTHER INFORMATION CONTACT: Howard Davenport, Auctions and Industry Analysis Division, at (202) 418-0660 or Kathy Garland, Auctions Operations at (717) 338-2801.

SUPPLEMENTARY INFORMATION: This is a summary of a Public Notice released April 12, 2000. The complete text of the public notice, including corrected Attachment J (Incumbent Television Licenses on Channels 59-68) is available for inspection and copying during normal business hours in the FCC Reference Center (Room CY-A257), 445 12th Street, SW, Washington, DC 20554. It may also be purchased from the Commission's copy contractor, International Transcription Services, Inc. (ITS, Inc.), 1231 20th Street, NW, Washington, DC 20036, (202) 857-3800. It is also available on the Commission's web site at http://www.fcc.gov.

1. The upcoming auction of licenses in the 747-762 and 777-792 MHz bands has been postponed until June 7, 2000. See DA 00-573, 747-762 and 777-792 MHz Band Auction Postponed Until June 7, 2000 (Postponement Public Notice) 65 FR 16202 (March 27, 2000). In the light of the postponement, the Wireless Telecommunications Bureau (“Bureau”) announces changes to related dates. The new dates and the dates already announced are as follows:

Deadline for Seminar Registration | April 21, 2000; 5:30 p.m. ET.
Start Date for Submission of FCC Form 175 | April 24, 2000.
Seminar Date | April 24, 2000.
Filing Deadline for FCC Form 175 | May 8, 2000; 6:00 p.m. ET.
Upfront Payments | May 22, 2000; 6:00 p.m. ET.
Deadline for Submitting (via fax) Refund Wire | May 22, 2000; 6:00 p.m. ET.
Transfer Instructions
Deadline for Ordering Remote Bidding Software | May 23, 2000; 6:00 p.m. ET.
Mock Auction Begins | June 2, 2000.
Auction Begins | June 7, 2000.

2. The Bureau also makes a minor correction to Attachment J of an earlier public notice. See DA 00-292, Auction of Licenses in the 747-762 and 777-792 MHz Bands Scheduled for May 10, 2000 (Announcing Public Notice) 65 FR 12251 (March 8, 2000). Attachment J has been amended to add the digital television stations that must also be protected from interference during the transitional period. This minor change reinforces and highlights the requirement that new licensees in the 747-762 and 777-792 MHz bands must provide full protection to both analog television and digital television operations during the transitional period. See FCC 00-5, Service Rules for the 746-764 and 776-794 MHz Bands, and Revisions to Part 27 of the Commission's Rules (First Report and Order) 65 FR 3139 (January 20, 2000).

3. The Commission delegated to the Bureau the authority to suspend payment deadlines and require that winning bidders on all licenses in the 700 MHz bands pay the full balance of their winning bids upon submission of their long-form application. See FCC 00-90, Service Rules for the 746-764 and 776-794 MHz Bands, and Revisions to Part 27 of the Commission's Rules (Second Report and Order) 65 FR 17594 (April 4, 2000). The Bureau will announce in a Public Notice if it chooses to exercise this authority.

4. Finally, in light of upcoming auctions, the Bureau also reminds participants that under the anti-collusion rules, after the short-form filing deadline, applicants may not discuss the substance of their bids or bidding strategies with other bidders that have applied to bid in the same geographic license areas, with the exception of those with whom they have entered into agreements and identified on the short-form application. See DA 96-1460, Wireless Telecommunications Bureau Provides Guidance on the Anti-Collusion Rule for D, E and F Block Bidders, (Public Notice), (released August 28, 1996). 11 FCC Rcd. 10134.

Federal Communications Commission.
Louis J. Sigalos,
Deputy Chief, Auctions and Industry Analysis Division.

[FR Doc. 00-9904 Filed 4-19-00; 8:45 am]

BILLING CODE 6712-01-U